DEPARTMENT OF THE INTERIOR

National Park Service

Notice of Availability of the Record of Decision for the Harvest of Glaucous-Winged Gull Eggs by Huna Tlingit in Glacier Bay National Park and Preserve Legislative Environmental Impact Statement

AGENCY: National Park Service, Interior.

ACTION: Notice of availability of the Record of Decision for the Harvest of Glaucous-Winged Gull Eggs by Huna Tlingit in Glacier Bay National Park and Preserve Legislative Environmental Impact Statement.

SUMMARY: The National Park Service (NPS) announces the availability of the Record of Decision (ROD) for the Legislative Environmental Impact Statement (LEIS) on the Harvest of Glaucous-Winged Gull Eggs by Huna Tlingit in Glacier Bay National Park and Preserve.

The Record of Decision (ROD) documents the NPS determination that harvest of glaucous-winged gull eggs could be authorized in Glacier Bay National Park without impairing the biological sustainability of the Park's glaucous-winged gull population or impacting other Park purposes and values. Implementation of the decision would require promulgation of public law and regulations, revising Title 36 of the Code of Federal Regulations.

Section 4 of the Glacier Bay National Park Resource Management Act of 2000 (Pub. L. 106-455) directed the NPS to “* * * undertake a study of sea gulls living within the park to assess whether sea gull eggs can be collected on a limited basis without impairing the biological sustainability of the sea gull population in the park.” The legislation also states that if the study determines collection could occur without impairing the biological sustainability of the gull population in the park, “ * * * the Secretary shall submit recommendations for legislation * * *” to the House and Senate authorizing committees.

The ROD documents the NPS selection of Alternative 3 (Two Annual Harvest Visits to Five Locations) based on consideration of the Park's purposes and mission, NPS policies, resource information and values analyzed in the Final Legislative Environmental Impact Statement (FLEIS), and comments received throughout the LEIS process. The FLEIS analysis determined this alternative would not adversely impact Park purposes and resources. Disturbance to nesting gulls is expected to be minimal. The FLEIS analysis concluded that these effects would be minor and would not affect sustainability of gull populations in the Park.

The basis for the decision stems from Park objectives and purposes and the need to respond to Section 4 of Public Law 106-455. Specifically, the decision was based on the following objectives:

• Provide for a limited gull egg harvest in the Park by tribal members of the Hoonah Indian Association (HIA)

• Not impair the biological sustainability of the Park's glaucous-winged gull population

• Protect Park resources and values

The ROD briefly discusses the background of the project, states the decision and discusses its basis, identifies mitigating measures, summarizes public involvement, describes other alternatives considered, specifies the environmentally preferable alternative, provides a non-impairment determination, and provides a conclusion.

ADDRESSES: The ROD can be found online at the NPS Planning, Environment and Public Comment Web site at http://parkplanning.nps.gov/index.cfm. Copies of the ROD are available on request from: Wayne Howell, Glacier Bay National Park and Preserve, Box 140, Gustavus, Alaska 99826. Telephone: (907) 697-2662.

FOR FURTHER INFORMATION CONTACT: Wayne Howell, Glacier Bay National Park and Preserve, Box 140, Gustavus, Alaska 99826. Telephone: (907) 697-2662.

SUPPLEMENTARY INFORMATION: The NPS prepared an EIS, as required, under the National Environmental Policy Act (NEPA) of 1969 and Council of Environmental Quality regulations (40 CFR Parts 1500-1508). A Notice of Intent to prepare an environmental impact statement, published in the Federal Register on September 18, 2006 (71 FR 54687), formally initiated the NPS planning and EIS effort. A Draft EIS was issued on December 19, 2008 (73 FR 77837) with a 77-day public comment period. A Federal Register notice announcing the availability of the Final EIS was published on May 26, 2010 (75 FR 29574), commencing the required 30-day no-action period (71 FR 3290). The Final EIS described and analyzed the environmental impacts of two action alternatives and a no-action alternative.

The ROD describes how the selected Alternative (Alternative 3—Two Annual Harvest Visits to Five Locations) could be implemented upon enactment of legislation to authorize the annual harvest of glaucous-winged gull eggs at up to five designated locations in Glacier Bay National Park on two separate dates by members of the Huna Indian Association (HIA). Legislative proposals from the NPS are subject to review by the Department of the Interior and the Executive Office of the President before transmittal to Congress can be approved. Thus, a legislative proposal is not included in the Record of Decision. If legislation authorizing the annual harvest of glaucous-winged gull eggs is enacted, each year the NPS and the HIA would prepare a harvest plan to identify sites open to harvest based on annual monitoring and harvest history. A first harvest visit could occur at each of the open sites on or before the 5th day following onset of laying, as determined by NPS staff monitoring a reference site. A second harvest at the same sites could occur within nine days of the first harvest. If inclement weather, logistics, or other issues prevented a first harvest visit within five days of onset of laying, only one harvest would be allowed in that year. No harvest visits would occur after June 15 of any year. The harvest plan would include, at a minimum, vessel(s) to be used to access harvest sites, tentative itinerary for harvest date(s), harvest locations, and names of harvesters. Information in this plan would be used to prepare any necessary Park permits including regulatory exemptions to 36 CFR 13.1178.

Victor W. Knox,
Acting Regional Director, Alaska.

[FR Doc. 2010-29536 Filed 11-23-10; 8:45 am]

BILLING CODE 4312-HX-P